DEPARTMENT OF COMMERCE

National Oceanic and Atmospheric Administration

[I.D. 051402A]

New England Fishery Management Council; Public Meetings

AGENCY: National Marine Fisheries Service (NMFS), National Oceanic and Atmospheric Administration (NOAA), Commerce.

ACTION: Notice of public meetings.

SUMMARY: The New England Fishery Management Council (Council) is scheduling public meetings of its Monkfish Oversight Committee and Scallop Oversight and Advisory Panel in June, 2002. Recommendations from these committees will be brought to the full Council for formal consideration and action, if appropriate.

DATES: The meetings will held between June 5, 2002 and June 11, 2002.

ADDRESSES: The meetings will be held at the Crowne Plaza Hotel at the Crossings 801 Greenwich Avenue, Warwick, RI 02886; telephone: (401) 732-6000.

Council address: New England Fishery Management Council, 50 Water Street, Newburyport, MA 01950.

FOR FURTHER INFORMATION CONTACT: Paul J. Howard, Executive Director, New England Fishery Management Council; (978) 465-0492.

SUPPLEMENTARY INFORMATION:

Meeting Dates and Agendas:

Wednesday, June 5, 2002 at 10:00 a.m. and Thursday, June 6, 2002 at 8:30 a.m.—Monkfish Oversight Committee Meeting.

The Committee will review the report of the Scientific and Statistical Committee and the Plan Development Team on options for revising the overfishing definition reference points and status determination criteria. The Committee will finalize its recommendations to the Councils for management alternatives to be analyzed in the Amendment 2 Draft Supplemental Environmental Impact Statement. Alternatives designed to achieve the approved goals and objectives include, but are not limited to: Permit qualification criteria for vessels fishing south of 38°N; management program for a deepwater directed fishery in the southern fishery management area (SFMA); separation of monkfish days-at-sea (DAS) from multispecies and sea scallop DAS programs, including counting of monkfish DAS as 24-hour days; measures to minimize impacts of the fishery on endangered sea turtles; measures to minimize bycatch in directed in non-directed fisheries, including mesh size and other gear requirements; an exemption program for vessels fishing for monkfish outside of the exclusive economic zone (in the Northwest Atlantic Fisheries Organization (NAFO) Regulated Area); alternative areas for essential fish habitat (EFH) designation and measures to minimize impacts of the fishery on EFH; measures to improve data collection and research on monkfish, including mechanisms for funding cooperative research programs. The Committee may develop and recommend other management alternatives not included in the list above. On Wednesday, Dr. Chris Chambers, Howard Laboratory, Northeast Fisheries Science Center (Sandy Hook), NMFS will speak on his Group's current research on monkfish. Their focus has been on reproductive ecology and behavior of adult monkfish, and the growth and distribution of young life-stages.

Monday, June 10, 2002 at 9:00 a.m.—Scallop Oversight and Advisory Panel Meeting and Tuesday, June 11, 2002 at 9:00 a.m.—Scallop Oversight Committee only.

The Oversight Committee will review analyses of potential impacts associated with Draft Amendment 10 alternatives, consider recommendations from the Advisory Committee, and choose preferred alternatives for recommendation to the Council. They may recommend additional analyses or amendments to the alternatives when the Council approves the documents for public hearing. Due to scheduling conflicts for some Oversight Committee members, the committee meeting on June 10 may run late into the evening and the June 11 meeting would be cancelled or shortened if the committee finishes its business early.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: May 14, 2002.
Richard W. Surdi,
Acting Director, Office of Sustainable Fisheries, National Marine Fisheries Service.

[FR Doc. 02-12871 Filed 5-21-02; 8:45 am]

BILLING CODE 3510-22-S